DEPARTMENT OF THE INTERIOR

Fish and Wildlife Service

[FWS-R8-ES-2019-N162; FRES48010811290 XXX]

Endangered and Threatened Species; Receipt of Incidental Take Permit Application and Habitat Conservation Plan; Availability of Environmental Assessment

AGENCY: Fish and Wildlife Service, Interior.

ACTION: Notice of availability; request for comments.

SUMMARY: We, the U.S. Fish and Wildlife Service, have received an application from the Pacific Gas and Electric Company for a permit to conduct activities with the potential to take listed species that is incidental to, and not the purpose of, carrying out otherwise lawful activities. With some exceptions, the Endangered Species Act prohibits certain activities that may impact listed species unless a Federal permit allows such activity. We invite comments on this application and the accompanying Environmental Assessment, which we will take into consideration before issuing a permit.

DATES: We will accept comments received or postmarked on or before April 1, 2020.

ADDRESSES: Obtaining Documents: The documents this notice announces, as well as any comments and other materials that we receive, will be available for public inspection on the U.S. Fish and Wildlife Service's Sacramento Field Office website at http://www.fws.gov/sacramento. They may also be viewed in person by appointment at the Sacramento Fish and Wildlife Office during regular business hours by contacting the individuals in FOR FURTHER INFORMATION CONTACT.

Submitting Comments: Please submit comments by one of the following methods:

• Fax: (916) 414-6713.

• U.S. mail or hand-delivery: Eric Tattersall, Assistant Field Supervisor; U.S. Fish and Wildlife Service; Sacramento Fish and Wildlife Office; 2800 Cottage Way, W-2605; Sacramento, CA 95825

We request that you submit comments by only the methods described above.

FOR FURTHER INFORMATION CONTACT: Joshua Emery, Senior Biologist, Conservation Planning Division; or Eric Tattersall, Assistant Field Supervisor, at the Sacramento Fish and Wildlife Office address above or by telephone at (916) 414-6600. If you use a telecommunications device for the deaf, hard-of-hearing, or speech disabled, please call the Federal Relay Service at 800-877-8339.

SUPPLEMENTARY INFORMATION: We, the U.S. Fish and Wildlife Service (Service), have received an application for an incidental take permit (ITP) under the Endangered Species Act of 1973, as amended (ESA; 16 U.S.C. 1531 et seq.). The application addresses the potential for take of listed species that is likely to occur incidental to the otherwise lawful activities as described in the applicant's habitat conservation plan, titled the Draft Pacific Gas and Electric Company Multiple Region Operation and Maintenance Habitat Conservation Plan (draft HCP).

This notice also advises the public that we have prepared a draft environmental assessment (draft EA) under the National Environmental Policy Act of 1969, as amended (NEPA; 42 U.S.C. 4321 et seq.), and its implementing regulations in the Code of Federal Regulations (CFR) at 40 CFR 1506.6.

Background

Section 9 of the ESA prohibits take of fish and wildlife species listed as endangered (16 U.S.C. 1538). By regulation, this take prohibition also applies to certain species listed as threatened. (50 CFR 17.31(a)). Under section 10(a)(1)(B) of the ESA (16 U.S.C. 1539(a)(1)(B)), we may issue permits to authorize take of listed fish and wildlife species that is incidental to, and not the purpose of, carrying out an otherwise lawful activity. Regulations governing permits for listed wildlife species are set forth in 50 CFR parts 17.22 and 17.32.

NEPA requires Federal agencies to analyze their proposed actions to determine whether the actions may significantly affect the human environment. In these NEPA analyses, the Federal agency will identify direct, indirect, and cumulative effects, as well as possible mitigation for effects on environmental resources that could occur with implementation of the proposed action and alternatives.

Proposed Action

The Service would issue an ITP to PG&E for a period of 30 years for certain covered activities (described below) in 34 counties in California. Annual species effects as a result of PG&E's activities are estimated to be approximately 100 acres (ac) of permanent habitat loss and 465 ac of temporary habitat disturbance. PG&E has requested inclusion of 36 species for coverage (covered species)—24 animals and 12 plants, 35 of which are currently listed as threatened or endangered under the Act, with one non-listed species also proposed for inclusion in the HCP. Of these covered species, the Service would, through issuance of the ITP, authorize incidental take of the 24 animal species proposed for coverage.

Draft HCP Area

The geographic scope of the draft HCP includes Amador, Butte, Calaveras, Colusa, El Dorado, Fresno, Glenn, Humboldt, Kern, Lake, Lassen, Madera, Mariposa, Mendocino, Modoc, Monterey, Nevada, Placer, Plumas, Sacramento, San Benito, San Luis Obispo, Santa Barbara, Santa Cruz, Shasta, Sierra, Siskiyou, Sutter, Tehama, Trinity, Tulare, Tuolumne, Yolo and Yuba counties. The geographic scope of the draft HCP also includes, for mitigation purposes, an area known as the integrated plan area, which encompasses the geographic boundaries of the applicant's two existing HCPs in the San Joaquin Valley and California Bay Area.

Covered Activities

The proposed section 10 ITP may allow take of wildlife covered species resulting from covered activities in the proposed HCP plan area. PG&E is requesting incidental take authorization for covered species that could be affected by activities identified in the draft HCP. The draft HCP covers all PG&E O&M, minor new construction, and pipeline safety enhancement program activities related to PG&E's natural gas and electric transmission and distribution systems that may result in take of covered species and that are located in the draft HCP area. O&M activities occur throughout PG&E's existing network of facilities and would occur at or near the existing facilities. Minor new construction activities include installing new or replacement structures to upgrade facilities or to extend service to new customers. Minor new construction, when in natural vegetation or agricultural land-cover types that contain suitable habitat for covered species, is limited to approximately 2 miles or fewer of new electric or gas line extensions from an existing line, a total of 1.0 ac or less of new gas pressure limiting stations within the study area, and 3 ac or less per electric substation expansion. The size of a minor new construction project would be estimated as the total footprint, expressed in ac. Additionally, PG&E's community pipeline safety initiative involves upgrading key existing gas transmission pipelines located in heavily populated and other critical areas. Covered activities include inspection, field testing, and potentially replacing many pipeline segments to ensure reliable and safe delivery of gas to customers. Pipeline replacements are estimated to average between 4 miles and 8 miles and are primarily in urban areas, although there would also be replacement activities in areas of natural vegetation. In such areas, pipeline replacement projects will take place in areas that have been previously disturbed by the construction of the original pipeline.

The draft HCP area consists of PG&E's gas and electric transmission and distribution facilities, rights-of-way, buffer lands, areas owned by PG&E and/or subject to PG&E easements, access routes, and those areas acquired as mitigation to offset the impacts resulting from covered activities. The total draft HCP area is approximately 564,781 ac; of this area, 303,287 ac (53.7 percent) are in natural land-cover types, 144,274 ac (25.5 percent) are in urban land-cover types, and 117,682 ac (20.8 percent) are in agricultural land-cover types.

The proposed section 10 ITP may allow take of the following covered wildlife species in California during the course of patrols and inspections, power pole replacements, reconductoring gas pipeline segment replacement, gas valve station replacement, and trimming of vegetation near power lines. Proposed incidental take (measured as habitat loss) for wildlife species over the permit term is shown in the table below.

Species | Proposed for incidental take (measured as habitat loss) over permit term
Animal Species
Blunt-nosed leopard lizard (Gambelia sila) | 70.94 ac, (13.28-ac permanent loss; 57.56-ac temporary disturbance).
California tiger salamander Central California distinct population segment (DPS) (Ambystoma californiense) | Breeding habitat: 35.04 ac, (5.91-ac permanent loss; 29.13-ac temporary disturbance). Upland habitat: 1,394.51 ac, (248.81-ac permanent loss; 1,148.71-ac temporary disturbance).
California tiger salamander Santa Barbara DPS (Ambystoma californiense) | Breeding habitat: 0.16 ac, (0.02-ac permanent loss; 0.14-ac temporary disturbance). Upland habitat: 88.78 ac, (11.77-ac permanent loss; 77.01-ac temporary disturbance).
California red-legged frog (Rana draytonii) | Breeding habitat: 234.00 ac, (48.00-ac permanent loss; 186.00-ac temporary disturbance). Upland habitat: 768.00 ac, (127.50-ac permanent loss; 640.52-ac temporary disturbance).
Conservancy fairy shrimp (Branchinecta conservatio) | 65.42 ac, (7.50-ac permanent loss; 57.92-ac temporary disturbance).
Foothill yellow-legged frog (Rana boylii) | Breeding habitat: 11.57 ac, (1.69-ac permanent loss; 9.88-ac temporary disturbance). Dispersal habitat: 139.00 ac, (20.23-ac permanent loss; 118.76-ac temporary disturbance).
Giant garter snake (Thamnophis gigas) | Aquatic habitat: 102.75 ac, (12.75-ac permanent loss; 90.00-ac temporary disturbance). Upland habitat: 338.01 ac, (38.01-ac permanent loss; 300.00-ac temporary disturbance).
Giant kangaroo rat (Dipodomys ingens) | 180.00 ac, (30.00-ac permanent loss; 150.00-ac temporary disturbance).
Longhorn fairy shrimp (Branchinecta longiantenna) | 24.39 ac, (3.32-ac permanent loss; 21.06-ac temporary disturbance).
Marbeled murrelet (Brachyramphus marmoratus) | 127.50 ac, (45.00-ac permanent loss; 82.50-ac temporary disturbance).
Morro shoulderband snail (Helminthoglypta walkeriana) | 9.00 ac, (3.00-ac permanent loss; 6.00-ac temporary disturbance).
Mount Hermon June beetle (Polyphylla barbata) | 30 ac, (7.50-ac permanent loss; 22.50-ac temporary disturbance).
Mountain yellow-legged frog (Rana muscosa) | 3.60 ac, (0.60-ac permanent loss; 3.00-ac temporary disturbance).
Northern spotted owl (Strix occidentalis caurina) | 825.00 ac, (165.00-ac permanent loss; 660.00-ac temporary disturbance).
Ohlone tiger beetle (Cicindela ohlone) | 30.00 ac, (7.50-ac permanent loss; 22.50-ac temporary disturbance).
Point Arena mountain beaver (Aplodontia rufa nigra) | 10.50 ac, (3.00-ac permanent loss; 7.50-ac temporary disturbance).
San Joaquin kit fox (Vulpes macrotis mutica) | 65.42 ac, (7.50-ac permanent loss; 57.92-ac temporary disturbance).
Santa Cruz long-toed salamander (Ambystoma macrodactylum croceum) | High-value habitat: 105.00 ac, (15.00-ac permanent loss; 90.00-ac temporary disturbance). Moderate value habitat: 170.55 ac, (29.06-ac permanent loss; 141.49-ac temporary disturbance). Low-value habitat: 1216.86 ac, (213.86-ac permanent loss; 1002.99-ac temporary disturbance).
Smith's blue butterfly (Euphilotes enoptes smithi) | 87.94 ac, (15.25-ac permanent loss; 72.69-ac temporary disturbance).
Valley elderberry longhorn beetle (Desmocerus californicus dimorphus) | 360.60 ac, (78.93-ac permanent loss; 281.67-ac temporary disturbance).
Vernal pool fairy shrimp (Branchinecta lynchi) | 380.54 ac, (41.97-ac permanent loss; 338.57-ac temporary disturbance).
Vernal pool tadpole shrimp (Lepidurus packardi) | 380.54 ac, (41.97-ac permanent loss; 338.57-ac temporary disturbance).
Yosemite toad (Anaxyrus canorus) | 2.50 ac, (0.50-ac permanent loss; 2.00-ac temporary disturbance).
Zayante band-winged grasshopper (Trimerotropis infantilis) | 18.75 ac, (3.59-ac permanent loss; 15.15-ac temporary disturbance).
Species | Proposed for coverage (measured as habitat loss) over permit term
Plant Species
Beach layia (Lavia carnosa) | 0.32 ac or 143 plants, whichever total is met first.
Ione manzanita (Arctostaphylos myrtifolia) | 12.25 ac or 64 plants, whichever total is met first.
Kern mallow (Eremalche parryi ssp. kernensis) | 10.5 ac or 1,226 plants, whichever total is met first.
Layne's ragwort (Packera layneae) | 2.86 ac or 103 plants, whichever total is met first.
Monterey gilia (Gilia tenuiflora ssp. arenaria) | 6.6 ac or 6,266 plants, whichever total is met first.
Monterey spineflower (Chorizanthe pungens var. pungens) | 46.6 ac or 4,376 plants, whichever total is met first.
Pine Hill ceanothus (Ceanothus roderickii) | 3.67 ac or 33 plants, whichever total is met first.
Pine Hill flannelbush (Fremontodendron decumbens) | 1.19 ac or 2 plants, whichever total is met first.
Robust spineflower (Chorizanthe robusta var. robusta) | 1.3 ac or 3,765 plants, whichever total is met first.
San Benito evening-primrose (Camissonia benitensis) | 0.37 ac or 1,888 plants, whichever total is met first.
Stebbins' morning-glory (Calystegia stebbinsii) | 0.37 ac or 1,888 plants, whichever total is met first.
Yadon's rein orchid (Piperia yadonii) | 2.1 ac or 64 plants, whichever total is met first.

Public Availability of Comments

Before including your address, phone number, email address, or other personal identifying information in your comment, you should be aware that your entire comment—including your personal identifying information—may be made publicly available at any time. While you can ask us in your comment to withhold your personal identifying information from public review, we cannot guarantee that we will be able to do so.

Next Steps

Issuance of an incidental take permit is a Federal proposed action subject to compliance with NEPA. We will evaluate the application, associated documents, and any public comments we receive to determine whether the application meets the requirements of NEPA regulations and section 10(a) of the Act. If we determine that those requirements are met, we will issue a permit to the applicant for the incidental take of the Covered Species.

Authority

We issue this notice pursuant to section 10(c) of the ESA (16 U.S.C. 1531 et seq.) and its implementing regulations (50 CFR 17.22 and 17.32), and the National Environmental Policy Act (42 U.S.C. 4321 et seq.) and its implementing regulations (40 CFR 1506.6 and 43 CFR 46.305).

Jennifer Norris,
Field Supervisor, Sacramento Fish and Wildlife Office, Sacramento, California.

[FR Doc. 2020-04224 Filed 2-28-20; 8:45 am]

BILLING CODE 4333-15-P